FEDERAL COMMUNICATIONS COMMISSION

[Report No. 2447]

Petitions for Reconsideration and Clarification of Action in Rulemaking Proceedings

October 19, 2000.

Petitions for Reconsideration and Clarification have been filed in the Commission's rulemaking proceedings listed in this Public Notice and published pursuant to 47 CFR Section 1.429(e). The full text of this document is available for viewing and copying in Room CY-A257, 445 12th Street, S.W., Washington, D.C. or may be purchased from the Commission's copy contractor, ITS, Inc. (202) 857-3800. Oppositions to these petitions must be filed by (November 13, 2000. See Section 1.4(b)(1) of the Commission's rules (47 CFR 1.4(b)(1)). Replies to an opposition must be filed within 10 days after the time for filing oppositions have expired.

Subject: Redesignation of the 17.7-19.7 GHz Frequency Band, Blanket Licensing of Satellite Earth Stations in the 17.7-20.2 GHz and 27.5-30.0 GHz Frequency Bands, and the Allocation of Additional Spectrum in the 17.3-17.8 GHz and 24.75-25.25 GHz Frequency Bands for Broadcast Satellite-Service Use (IB Docket No. 98-172, RM-9005, RM-9118).

Number of Petitions Filed: 4.

Subject: Implementation of Video Description of Video Programming (MM Docket No. 99-339).

Number of Petitions Filed: 8.

Federal Communications Commission.
Magalie Roman Salas,
Secretary.

[FR Doc. 00-27586 Filed 10-26-00; 8:45 am]

BILLING CODE 6712-01-M